DEPARTMENT OF TRANSPORTATION

Federal Railroad Administration

[Docket No. FRA-2011-0027, Notice No. 10]

Northeast Corridor Safety Committee; Notice of Meeting

AGENCY: Federal Railroad Administration (FRA), Department of Transportation (DOT).

ACTION: Notice of Northeast Corridor Safety Committee (NECSC) meeting.

SUMMARY: FRA announces the eighth meeting of the NECSC, a Federal Advisory Committee mandated by section 212 of the Passenger Rail Investment and Improvement Act of 2008 (PRIIA) and amended by section 11305 of the Fixing America's Surface Transportation Act of 2015 (FAST Act). The NECSC is made up of stakeholders operating on the Northeast Corridor, and the purpose of the NECSC is to provide annual recommendations to the Secretary of Transportation. The NECSC meeting agenda will include presentations on: Implementation of Positive Train Control; the state of moveable bridges; New York City tunnel system inspection and maintenance; an update to the ongoing study of maintenance-of-way worker fatigue; state of the NEC catenary; condition of railroad tracks adjacent to the NEC; security along the NEC; and a general discussion of safety issues. This agenda is subject to change.

DATES: The NECSC meeting is scheduled to commence at 9:30 a.m. on Thursday, April 6, 2017, and will adjourn by 4:30 p.m.

ADDRESSES: The NECSC meeting will be held at the National Housing Center located at 1201 15th Street NW., Washington, DC 20005. The meeting is open to the public on a first-come, first-served basis, and is accessible to individuals with disabilities. Sign and oral interpretation can be made available if requested 10 calendar days before the meeting.

FOR FURTHER INFORMATION CONTACT: Mr. Kenton Kilgore, NECSC Administrative Officer/Coordinator, FRA, 1200 New Jersey Avenue SE., Mailstop 25, Washington, DC 20590, (202) 493-6286; or Mr. Larry Woolverton, Executive Officer for Safety Analysis, FRA, 1200 New Jersey Avenue SE., Mailstop 25, Washington, DC 20590, (202) 493-6212.

SUPPLEMENTARY INFORMATION: The NECSC is mandated by a statutory provision in section 212 of the PRIIA which was amended in 2015 by section 11305 of the FAST Act (codified at 49 U.S.C. 24905(e)). The NECSC is chartered by the Secretary of Transportation and is an official Federal Advisory Committee established in accordance with the provisions of the Federal Advisory Committee Act, as amended, 5 U.S.C. Title 5—Appendix.

Authority: 49 U.S.C. 24905(e).

Sarah L. Inderbitzin,
Acting Chief Counsel.

[FR Doc. 2017-05871 Filed 3-21-17; 4:15 pm]

BILLING CODE 4910-06-P